COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: April 25, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s): MR 858—Extra Life

Designated Source of Supply: Industries of the Blind, Inc., Greensboro, NC

Contracting Activity: Military Resale-Defense Commissary Agency

NSN(s)—Product Name(s):

MR 1172—Sweeper Set, Wet and Dry

MR 1174—Refill, Sweeper Set, Dry Cloths, 30 Count

Designated Source of Supply: LC Industries, Inc., Durham, NC

Contracting Activity: Military Resale-Defense Commissary Agency

NSN(s)—Product Name(s):

MR 804—Grill Basket

MR 889—Ergo Garlic Press

Designated Source of Supply: Cincinnati Association for the Blind, Cincinnati, OH

Contracting Activity: Military Resale-Defense Commissary Agency

Service(s)

Service Type: Transcription Services

Mandatory for: Equal Employment Office: Federal Bureau of Prisons, Washington, DC

Designated Source of Supply: Lighthouse for the Blind of Houston, Houston, TX

Contracting Activity: FEDERAL PRISON SYSTEM, CENTRAL OFFICE

Service Type: Preservation and Packaging

Mandatory for: New Cumberland Army Depot, New Cumberland, PA

Designated Source of Supply: ForSight Vision, York, PA

Contracting Activity: DEFENSE LOGISTICS AGENCY, DLA SUPPORT SERVICES—DSS

Michael R. Jurkowski,
Deputy Director, Business & PL Operations.

[FR Doc. 2021-06303 Filed 3-25-21; 8:45 am]

BILLING CODE 6353-01-P